NUCLEAR REGULATORY COMMISSION

Notice of Extension of Call for Nominations for the Advisory Committee on the Medical Uses of Isotopes

AGENCY: U.S. Nuclear Regulatory Commission.

ACTION: Notice.

SUMMARY: A call for nominations was published by the U.S. Nuclear Regulatory Commission (NRC) in the Federal Register (77 FR 62538-62539) on October 15, 2012 for the positions of health care administrator and nuclear cardiologist on the Advisory Committee on the Medical Uses of Isotopes (ACMUI). The nomination period ends on December 14, 2012. This notice confirms a 60 day extension of the nomination period until February 14, 2013.

DATES: Nominations are due on or before February 14, 2013.

Nomination Process: Submit an electronic copy of a resume or curriculum vitae, along with a cover letter, to Ms. Sophie Holiday, sophie.holiday@nrc.gov.

The resume or curriculum vitae for the health care administrator should include the following information, as applicable: education; certification; professional association membership and committee membership activities; and number of years, recentness, and type of setting for health care administration. The cover letter should describe the nominee's current involvement with health care administration and express the nominee's interest in the position.

The resume or curriculum vitae for the nuclear cardiologist should include the following information, as applicable: education; certification; professional association membership and committee membership activities; and number of years, recentness, and type of setting for nuclear cardiology. The cover letter should describe the nominee's current involvement with nuclear cardiology and express the nominee's interest in the position.

FOR FURTHER INFORMATION CONTACT: Ms. Sophie Holiday, U.S. Nuclear Regulatory Commission, Office of Federal and State Materials and Environmental Management Programs; (301) 415-7865; sophie.holiday@nrc.gov.

Dated at Rockville, Maryland this 5th day of December 2012.
For the U.S. Nuclear Regulatory Commission.
Andrew L. Bates,
Advisory Committee Management Officer.

[FR Doc. 2012-29892 Filed 12-10-12; 8:45 am]

BILLING CODE 7590-01-P